DEPARTMENT OF DEFENSE

Department of the Air Force

U.S. Air Force Partially Exclusive Patent License

AGENCY: Department of the Air Force, Air Force Research Laboratory Information Directorate, Rome, New York, Department of Defense.

ACTION: Notice of intent to issue a partially exclusive patent license.

SUMMARY: The Department of the Air Force announces its intention to grant Mentis Technologies, having a place of business at 725 Daedalian Drive, Rome, New York 13440, a partially exclusive license in any right, title and interest the United States Air Force has in: In U.S. Patent No. 9,349,007 issued on May 24, 2016 and entitled “WEB MALWARE BLOCKING THROUGH PARALLEL RESOURCE RENDERING”, having been filed on May 29, 2014 as U.S. Patent Application No. 14/290,175.

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Authority: Pursuant to the provisions of part 404 of Title 37, Code of Federal Regulations, which implements Public Law 96-517, as amended.

Henry Williams,
Acting Air Force Federal Register Liaison Officer.

[FR Doc. 2017-13402 Filed 6-26-17; 8:45 am]

BILLING CODE 5001-10-P